DEPARTMENT OF THE INTERIOR

Fish and Wildlife Service

Aquatic Nuisance Species Task Force Meeting

AGENCY: Fish and Wildlife Service, Interior.

ACTION: Notice of meeting.

SUMMARY: This notice announces a meeting of the Aquatic Nuisance Species (ANS) Task Force. The meeting topics are identified in the SUPPLEMENTARY INFORMATION section.

DATES: The Aquatic Nuisance Species Task Force will meet from 8:30 a.m. to 5 p.m. on Tuesday, November 16, 2004 and 8:30 a.m. to 12 p.m. on Wednesday, November 17, 2004. Minutes of the meeting will be available for public inspection during regular business hours, Monday through Friday.

ADDRESSES: The Aquatic Nuisance Species Task Force meeting will be held at the Marriott Crystal Gateway, 1700 Jefferson Davis Highway, Arlington, VA 22202. Phone (703) 920-3230. Minutes of the meeting will be maintained in the office of Chief, Division of Environmental Quality, U.S. Fish and Wildlife Service, Suite 322, 4401 North Fairfax Drive, Arlington, Virginia 22203-1622.

FOR FURTHER INFORMATION CONTACT: Everett Wilson, Acting Executive Secretary, Aquatic Nuisance Species Task Force, at (703) 358-2148.

SUPPLEMENTARY INFORMATION: Pursuant to section 10(a)(2) of the Federal Advisory Committee Act (5 U.S.C. App. I), this notice announces meetings of the Aquatic Nuisance Species Task Force. The Task Force was established by the Nonindigenous Aquatic Nuisance Prevention and Control Act of 1990.

Topics to be covered during the ANS Task Force meeting include: a discussion of the implementation of the ANSTF Strategic Plan; ANSTF Committee and Regional Panel reports; a presentation on the draft National Management Plan for the genus Caulerpa; and a presentation of a new public awareness campaign.

Dated: October 15, 2004.
Mamie A. Parker,
Co-Chair, Aquatic Nuisance Species Task Force, Assistant Director—Fisheries & Habitat Conservation.

[FR Doc. 04-23989 Filed 10-26-04; 8:45 am]

BILLING CODE 4510-55-P